DEPARTMENT OF VETERANS AFFAIRS

[OMB Control No. 2900-NEW]

Agency Information Collection; Supporting Statement for VA Preparedness Communications Survey

AGENCY: Veterans Health Administration, Department of Veterans Affairs.

ACTION: Under OMB Review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before February 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—(Supporting Statement for VA Preparedness Communications Survey)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900--(Supporting Statement for VA Preparedness Communications Survey)” in any correspondence.

SUPPLEMENTARY INFORMATION:

Titles: VA Preparedness Communications Survey.

OMB Control Number: 2900-NEW.

Type of Review: New Collection Request.

Abstract: This collection is being conducted by the Veterans Emergency Management Evaluation Center at the request of the Department of Veterans Affairs (VA), Veterans Health Administration (VHA), Office of Emergency Management (OEM) to support current and future operations. VA does not currently have a natural disaster preparedness plan to communicate with patients and ensure their continuity of care. The proposed study will support VA/VHA Office of Emergency Management operations by assessing how best to communicate news of medical facility closures to patients during and after a natural disaster. The proposed survey will support this effort by providing VA stakeholders with high-quality information to inform the development of a disaster preparedness communication plan to reach Veterans with different communication needs.

Affected Public: Individuals or households.

Estimated Total Annual Burden: 86,033.

Estimated Average Burden per Respondent: 10 minutes.

Frequency of Response: Yearly.

Estimated Number of Respondents: 2,272.

Dated: January 15, 2015.
By direction of the Secretary.
Crystal Rennie,
VA Clearance Officer, U.S. Department of Veterans Affairs.

[FR Doc. 2015-00881 Filed 1-20-15; 8:45 am]

BILLING CODE 8320-01-P